NATIONAL AERONAUTICS AND SPACE ADMINISTRATION

[Notice (22-057)]

NASA Advisory Council; Meeting

AGENCY: National Aeronautics and Space Administration.

ACTION: Notice of meeting.

SUMMARY: In accordance with the Federal Advisory Committee Act, the National Aeronautics and Space Administration (NASA) announces a meeting of the NASA Advisory Council (NAC).

DATES: Tuesday, August 9, 2022, 1 p.m.-5:30 p.m. Eastern Time; and Wednesday, August 10, 2022, 1 p.m.-5:30 p.m. Eastern Time.

ADDRESSES: The meeting will be virtual for members of the public. Dial-in audio teleconference and webcast details to watch the meeting remotely will be available on the NASA Advisory Council website at: www.nasa.gov/offices/nac/home/index.html.

FOR FURTHER INFORMATION CONTACT: Ms. Marcia Guignard, NAC Administrative Officer, NASA Headquarters, Washington, DC 20546, marcia.guignard@nasa.gov.

The agenda for the meeting will include reports on the following NAC priority focus areas:

—Climate Change

—Commercial and Industry Partnerships

—Diversity, Equity, Inclusion and Accessibility

—International Collaboration

—Program Management and Acquisition

The agenda for the meeting will also include reports from the following NAC committees:

—Aeronautics Committee

—Human Exploration and Operations Committee

—Science Committee

—STEM Engagement Committee

—Technology, Innovation and Engineering Committee

It is imperative that the meeting be held on this date to accommodate the scheduling priorities of the key participants.

Patricia Rausch,
Advisory Committee Management Officer, National Aeronautics and Space Administration.

[FR Doc. 2022-15839 Filed 7-22-22; 8:45 am]

BILLING CODE 7510-13-P